FEDERAL ELECTION COMMISSION

Sunshine Act Meetings

AGENCY: Federal Election Commission.

DATE & TIME: Thursday, June 13, 2013 at 10:00 a.m.

PLACE: 999 E Street NW., Washington, DC (Ninth Floor).

STATUS: This meeting will be open to the public.

ITEMS TO BE DISCUSSED: Correction and Approval of the Minutes for the Meeting of May 9, 2013

Draft Advisory Opinion 2013-03: Erin Bilbray-Kohn

Proposed Final Audit Report on the California Republican Party/V8 (A09-15)

Draft Interpretive Rule on Reporting Ultimate Payees of Political Committee Disbursements

OGC Enforcement Manual

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2013-13890 Filed 6-7-13; 11:15 am]

BILLING CODE 6715-01-P